DEPARTMENT OF COMMERCE

National Oceanic and Atmospheric Administration

Agency Information Collection Activities; Submission to the Office of Management and Budget (OMB) for Review and Approval; Comment Request; Weather and Society Survey and Using Quick Response Surveys To Build a Public Perception and Response Database

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on 9/22/2021 during a 60-day comment period. This notice allows for an additional 30 days for public comments.

Agency: National Oceanic and Atmospheric Administration, Commerce.

Title: Weather and Society Survey and Using Quick Response Surveys to Build a Public Perception and Response Database.

OMB Control Number: 0648-XXXX.

Form Number(s): None.

Type of Request: Regular (New information collection).

Number of Respondents: 37,650.

Average Hours per Response: Longitudinal surveys: .20 minutes; QRS: 10 minutes.

Total Annual Burden Hours: 7,140.

Needs and Uses: In alignment with the Weather Forecasting and Innovation Act of 2017 (Pub. L. 115-25), two data collections are proposed under this request. There are no other collections for which these can be merged.

The first proposed information collection request is sponsored by DOC/NOAA/National Weather Service (NWS)/Office of Science and Technology Integration (OSTI). Currently, NOAA lacks data and data collection instruments that articulate and explicate how individuals receive, interpret, and respond to NOAA information, forecasts, and warnings for severe, winter, and tropical weather hazards. Furthermore, NOAA lacks this type of data longitudinally (i.e., collected over time). Without this type of longitudinal data, NOAA, and the NWS specifically, cannot determine if it has met its mission of saving lives and property, propose societal impact performance metrics, nor demonstrate if progress or improvements have been made, as outlined in the Weather Research and Forecasting Innovation Act of 2017. This effort aims to advance the Tornado Warning Improvement and Extension Program (TWIEP)'s goal to “reduce the loss of life and economic losses from tornadoes through the development and extension of accurate, effective, and timely tornado forecasts, predictions, and warnings, including the prediction of tornadoes beyond one hour in advance (Pub. L. 115-25)”. This work addresses NOAA's 5-year Research and Development Vision Areas (2020-2026) Section 1.4 (FACETs). The Weather and Society Survey also advances the findings of the National Academy of Science 2012 report, “Assessment of the NWS Modernization Program”, in reference to NWS' “chain of events associated with a tornado warning” (p52). This effort also advances the NWS Strategic Plan (2019-2022) “Transformative Impact-Based Decision Support Services (IDSS) and Research to Operations and Operations to Research (R2O/O2R). Furthermore, the Survey furthers the NWS Weather Ready Nation (WRN) Roadmap (2013) Sections 1.1.1, 1.1.2, 1.1.3, 1.1.8, and 3.1.4.

This information would be collected at the Cooperative Institute for Mesoscale Meteorological Studies (CIMMS) and the University of Oklahoma's Center for Risk and Crisis Management (CRCM), who has developed data collection instruments that would allow for more routine and longitudinal data collection, as the data will be collected on an annual basis. Furthermore, this team has developed interactive “dashboards”, or tools, to visualize the aggregated data.

Respondents include adults (age 18+) who reside in the United States, recruited by survey companies that maintain large panels of people who sign up to complete internet surveys, such as Qualtrics and Survey Sampling International. Respondents will be asked questions about the ways they have received, interpreted, and responded to NWS information, forecasts, and warnings for severe, tropical, and winter weather hazards. Questions about preparedness for specific hazards such as heat waves, tornadoes, and drought may also be included. This data collection serves many purposes, including gaining a better understanding of how key factors within a given population, or organization, vary over time, location, and across different groups; the ability to detect gradual trends or abrupt changes in those factors over time or in response to particular events; and the potential to explore possible correlations and causal relationships with other observed variables of interest. These data will be used by the OSTI in NWS to develop a baseline and performance metrics to improve the information and services it provides and to help members of the weather enterprise answer basic questions about the people in the communities they serve, which is a necessary step towards customizing and improving risk communication, education, and decision support to meet the characteristics of the community, including those in vulnerable populations. The information collected will help identify differences and best practices between communities and assist NWS in developing new education and risk communication strategies. The survey data and its associated dashboard will serve as interactive tools to allow NWS forecasters, partners, and policymakers to access and explore data for training and performance evaluation purposes.

The second proposed collection is sponsored through NOAA's FY2021 Weather Program Office's Social Science Program, and addresses the Social, Behavioral, and Economic Sciences (SBES) component of meeting NOAA's Research and Development (R&D) Vision Areas (2020-2026) to integrate SBES into products, tools, and services that improve weather and air quality forecasting and societal outcomes.

This proposal aims to create an online survey system for collecting data on the publics' perception and response to four different hazards: Tornados, thunderstorm winds over 70 miles per hour (mph), flash floods, and winter weather. The online surveys will be the building blocks for a multi-year, cross-sectional database on human perception and response. The survey system will enable individual National Weather Service Weather Forecast Offices (WFOs) to disseminate Quick Response Surveys (QRS) soon after a hazardous event occurs to collect perishable data on the publics' perceptions and response. Select WFOs will distribute the QRSs using web links on NWS social media and core partners' social media or email lists. Surveys will ask the public questions on timing, location, weather information sources, motivations and influences for taking protective action to gain insights into how NWS warning communications interact with these factors to result in protective action behaviors.

Affected Public: Individuals or households.

Frequency: Once.

Respondent's Obligation: Voluntary.

Legal Authority: 15 U.S.C. Ch. 111, Weather Research and Forecasting Information.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2022-05943 Filed 3-18-22; 8:45 am]

BILLING CODE 3510-KE-P